DEPARTMENT OF THE INTERIOR

National Park Service

Notice of Inventory Completion: Pioneer Historical Society of Bent County, Las Animas, CO

AGENCY: National Park Service, Interior.

ACTION: Notice.

Notice is here given in accordance with the Native American Graves Protection and Repatriation Act (NAGPRA), 25 U.S.C. 3003, of the completion of an inventory of human remains in the possession of the Pioneer Historical Society of Bent County, Las Animas, CO. The human remains were removed from La Plata County, CO.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Pioneer Historical Society of Bent County professional staff in consultation with representatives of the Southern Ute Indian Tribe of the Southern Ute Reservation, Colorado.

On an unknown date, human remains representing a minimum of one individual were removed from “an old grave” found in the vicinity of the Southern Ute Indian Reservation at Ignacio, La Plata County, CO. The human remains were donated to the museum by Mrs. Will Cooper on an unknown date. No known individual was identified. No associated funerary objects are present.

The general description of the location from which the human remains were removed, as well as the collecting practices of people in the area, suggests this individual is Native American. The Southern Ute Reservation is a checkerboard with many private in-holdings from which the human remains are believed to have been removed. The U.S. Department of the Interior, Bureau of Indian Affairs does not exert control over the human remains in this notice. The Southern Ute Indian Tribe lives on the Southern Ute Indian Reservation.

Officials of the Pioneer Historical Society of Bent County have determined that, pursuant to 25 U.S.C. 3001 (9-10), the human remains described above represent the physical remains of one individual of Native American ancestry. Officials of the Pioneer Historical Society of Bent County also have determined that, pursuant to 25 U.S.C. 3001 (2), there is a relationship of shared group identity that can be reasonably traced between the Native American human remains and the Southern Ute Indian Tribe of the Southern Ute Reservation, Colorado.

Representatives of any other Indian tribe that believes itself to be culturally affiliated with the human remains should contact Kathy Finau, Project Coordinator, Pioneer Historical Society of Bent County, PO Box 68, Las Animas, CO 81045, telephone (719) 469-8818, before March 26, 2008. Repatriation of the human remains to the Southern Ute Indian Tribe of the Southern Ute Reservation, Colorado may proceed after that date if no additional claimants come forward.

Pioneer Historical Society of Bent County is responsible for notifying the Southern Ute Indian Tribe of the Southern Ute Reservation, Colorado that this notice has been published.

Dated: December 20, 2007
Sherry Hutt.
Manager, National NAGPRA Program.

[FR Doc. E8-3454 Filed 2-22-08; 8:45 am]

BILLING CODE 4312-50-S